DEPARTMENT OF JUSTICE

Notice of Proposed Consent Decree Under the Comprehensive Environmental Response, Compensation, and Liability Act

Notice is hereby given that on June 12, 2012, the United States, on behalf of the U.S. Department of Agriculture, Forest Service, filed a Complaint and on June 13, 2012, lodged a proposed Consent Decree in United States v. The Stearns Co., Ltd., and Stearns Enterprises, Inc., Case No. 12-cv-191-JMH (E.D. Ky.), relating to the Lower Rock Creek Mines Site in McCreary County, Kentucky (the “Site”). The Complaint seeks reimbursement from defendants, The Stearns Co., Ltd., and Stearns Enterprises, Inc., of environmental response costs incurred by the Forest Service at the Site and the entry of a declaratory judgment with respect to the Forest Service's future response costs under Sections 107(a) and 113(g) of the Comprehensive Environmental Response, Compensation, and Liability Act of 1980, as amended (“CERCLA”), 42 U.S.C. 9607(a) and 9613(g).

The proposed Consent Decree resolves the claims in the Complaint. Under the proposed Consent Decree, the defendants agree to the entry of a judgment in favor of the United States in the amount of $31.8 million; the judgment can be satisfied, however, solely through the transfer of Defendants' real property interests (comprised primarily of mineral rights in the Site property) to the United States (reuniting the Forest Service's fee interest in the Site property with the mineral rights) and recoveries, if any, under Defendants' insurance policies. In addition, defendants agree to withdraw their application, pending with the U.S. Department of Interior's Office of Surface Mining and Enforcement, for a “compatibility determination” under the Surface Mining Control and Reclamation Act of 1977 with respect to defendants' mineral rights at the Site, thus avoiding the potential litigation were DOI to act adversely on defendants' application.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. The Stearns Co., Ltd., and Stearns Enterprises, Inc., Case No. 12-cv-191-JMH (E.D. Ky.), D.J. Ref. 90-11-3-10012.

During the public comment period, the Consent Decree may be examined at the Daniel Boone National Forest Supervisor's Office, 1700 Bypass Road, Winchester, KY 40391. This office is open 8:00 a.m. to 4:30 p.m. Monday through Friday, except Federal Holidays; telephone number (859) 745-3100. The Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to “Consent Decree Copy” (EESCDCopy.ENRD@usdoj.gov), fax no. (202) 514-0097, phone confirmation number (202) 514-5271. In requesting a copy from the Consent Decree Library, please enclose a check in the amount of $12.75 (.25 cents per page reproduction cost) payable to the U.S. Treasury, or if by email or fax, forward a check in that amount to the Consent Decree Library at the stated address.

Maureen Katz,
Assistant Chief, Environmental Enforcement Section, Environment and Natural Resources Division.

[FR Doc. 2012-14840 Filed 6-18-12; 8:45 am]

BILLING CODE 4410-15-P